DEPARTMENT OF HEALTH AND HUMAN SERVICES

National Institutes of Health

National Cancer Institute Amended; Notice of Meeting

Notice is hereby given of a change in the meeting of the National Cancer Institute Special Emphasis Panel, June 23, 2016, 08:00 a.m. to June 24, 2016, 06:00 p.m., Doubletree Hotel Bethesda, 8120 Wisconsin Avenue, Bethesda, MD, 20814 which was published in the Federal Register on May 16, 2016, 81 FR 30318.

The meeting notice is amended to change the Committee name from National Cancer Institute, Special Emphasis Panel; NCI Omnibus R03 SEP-1 to National Cancer Institute, Special Emphasis Panel; NCI R03 SEP-2. The meeting is closed to the public.

Dated: June 1, 2016.
Melanie J. Gray,
Program Analyst, Office of Federal Advisory Committee Policy.

[FR Doc. 2016-13309 Filed 6-6-16; 8:45 am]

BILLING CODE 4140-01-P